DEPARTMENT OF HEALTH AND HUMAN SERVICES

Substance Abuse and Mental Health Services Administration

Fiscal Year (FY) 2024 Notice of Supplemental Funding Opportunity

AGENCY: Substance Abuse and Mental Health Services Administration, Department of Health and Human Services (HHS).

ACTION: Notice of intent to award supplemental funding.

SUMMARY: This notice is to inform the public that the Substance Abuse and Mental Health Services Administration (SAMHSA) is supporting administrative supplements in scope of the parent award for the 10 eligible grant recipients funded under the FY 2022 Rural Opioid Technical Assistance Regional Centers (ROTA-R), Notice of Funding Opportunity (NOFO) TI-22-012. Each recipient may receive up to $650,000, for a total of $6,500,000. This supplemental funding will extend the project period by one-year. The supplemental funding will be used to continue to implement regional centers of excellence to develop and disseminate training and technical assistance addressing opioid and stimulant misuse affecting rural communities. Recipients will continue the identification of model programs, develop and update materials related to the prevention, harm reduction, treatment, and recovery activities for opioid use disorder (OUD) and/or stimulant use disorder, and ensure that high-quality training is provided.

FOR FURTHER INFORMATION CONTACT: Humberto Carvalho, Substance Abuse and Mental Health Services Administration, 5600 Fishers Lane, Rockville, MD 20857, telephone 240-276-2974; email: humberto.carvalho@samhsa.hhs.gov.

SUPPLEMENTARY INFORMATION:

Funding Opportunity Title: FY 2024 Rural Opioid Technical Assistance Regional Centers (ROTA-R) TI-22-012.

Assistance Listing Number: 93.243.

Authority: Section 509 of the of the Public Health Service Act.

Justification: The 10 SAMHSA-funded ROTA-R grant recipients have the capacity and expertise to provide training and technical assistance addressing opioid and stimulant misuse affecting rural communities. This supplement is to continue providing training and technical assistance in FY 2024 to rural communities.

This is not a formal request for application. Assistance will only be provided to the 10 ROTA-R grant recipients funded in FY 2022 under the Rural Opioid Technical Assistance Regional Centers (ROTA-R) NOFO TI-22-012 based on the receipt of a satisfactory application and associated budget that is approved by a review group.

Dated: July 16, 2024.
Ann Ferrero,
Public Health Analyst.

[FR Doc. 2024-16014 Filed 7-19-24; 8:45 am]

BILLING CODE 4162-20-P